DEPARTMENT OF HOMELAND SECURITY

Federal Emergency Management Agency

[FEMA-1603-DR]

Louisiana; Amendment No. 11 to Notice of a Major Disaster Declaration

AGENCY: Federal Emergency Management Agency, Department of Homeland Security.

ACTION: Notice.

SUMMARY: This notice amends the notice of a major disaster for the State of Louisiana (FEMA-1603-DR), dated August 29, 2005, and related determinations.

DATES: Effective Date: June 29, 2006.

FOR FURTHER INFORMATION CONTACT: Magda Ruiz, Recovery Division, Federal Emergency Management Agency, Washington, DC 20472, (202) 646-2705.

SUPPLEMENTARY INFORMATION: Notice is hereby given that, in a letter dated June 29, 2006, the President amended the cost-sharing arrangements concerning Federal funds provided under the authority of the Robert T. Stafford Disaster Relief and Emergency Assistance Act, 42 U.S.C. 5121-5206 (Stafford Act), in a letter to R. David Paulison, Director, Federal Emergency Management Agency, Department of Homeland Security, as follows:

I have determined that the damage in certain areas of the State of Louisiana resulting from Hurricane Katrina, during the period of August 29 to November 1, 2005, is of sufficient severity and magnitude that special cost-sharing arrangements are warranted regarding Federal funds provided under the Robert T. Stafford Disaster Relief and Emergency Assistance Act, 42 U.S.C. 5121-5206 (the Stafford Act).

Therefore, I amend my declarations of August 29, 2005, September 1, 2005, October 22, 2005, November 19, 2005, and December 20, 2005, to authorize Federal funds for debris removal, including direct Federal assistance, under the Public Assistance program, at 100 percent of total eligible costs, through and including December 31, 2006, for the parishes of Orleans, St. Bernard, St. Tammany, Washington, and Plaquemines.

Please notify Governor Blanco and the Federal Coordinating Officer of this amendment to my major disaster declarations.

This cost share is effective as of the date of the President's major disaster declaration.

(The following Catalog of Federal Domestic Assistance Numbers (CFDA) are to be used for reporting and drawing funds: 97.030, Community Disaster Loans; 97.031, Cora Brown Fund Program; 97.032, Crisis Counseling; 97.033, Disaster Legal Services Program; 97.034, Disaster Unemployment Assistance (DUA); 97.046, Fire Management Assistance; 97.048, Individuals and Households Housing; 97.049, Individuals and Households Disaster Housing Operations; 97.050, Individuals and Households Program—Other Needs; 97.036, Public Assistance Grants; 97.039, Hazard Mitigation Grant Program.)

R. David Paulison,
Under Secretary for Federal Emergency Management and Director of FEMA.

[FR Doc. E6-11512 Filed 7-19-06; 8:45 am]

BILLING CODE 9110-10-P